DEPARTMENT OF COMMERCE

National Oceanic and Atmospheric Administration

RIN 0648-XM14

Endangered Species; File No. 1547

AGENCY: National Marine Fisheries Service (NMFS), National Oceanic and Atmospheric Administration (NOAA), Commerce.

ACTION: Notice; receipt of application for modification.

SUMMARY: Notice is hereby given that the New York State Department of Environmental Conservation (Kathryn Hattala, Principal Investigator), 21 South Putt Corners Road; New Paltz, NY 12561, has requested a modification to scientific research Permit No. 1547-01.

DATES: Written, telefaxed, or e-mail comments must be received on or before January 8, 2009.

ADDRESSES: The application and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1547.

FOR FURTHER INFORMATION CONTACT: Malcolm Mohead or Kate Swails, (301)713-2289.

SUPPLEMENTARY INFORMATION: The subject modification to Permit No. 1547-01, issued on March 22, 2007, is requested under the authority of the Endangered Species Act of 1973, as amended (ESA; 16 U.S.C. 1531 et seq.), and the regulations governing the taking, importing, and exporting of endangered and threatened species (50 CFR 222-226).

The permit holder is currently authorized under Permit No. 1547-01 to conduct scientific research to evaluate seasonal movement of shortnose sturgeon (Acipenser brevirostrum) in the Haverstraw and Newburgh Bays of the Hudson River. Annually, a maximum of 500 adult and juvenile shortnose sturgeon are captured with gill nets, measured, weighed, genetic tissue sampled, scanned for tags, PIT and Carlin tagged (if untagged), and released. The applicant proposes to annually perform anesthesia and gastric lavage on up to 200 fish. The researcher also requests an unintentional mortality of one shortnose sturgeon annually. The goal of the additional research would be to document the diet of shortnose sturgeon occupying the same habitat as Atlantic sturgeon (Acipenser oxyrhynchus oxyrhynchus) in the lower Hudson River. This modification would be valid through the expiration date of the original permit, October 31, 2011. All other aspects of the currently permitted activity would remain the same.

Dated: December 4, 2008.
P. Michael Payne,
Chief, Permits, Conservation and Education Division, Office of Protected Resources, National Marine Fisheries Service.

[FR Doc. E8-29132 Filed 12-8-08; 8:45 am]

BILLING CODE 3510-22-S